DEPARTMENT OF THE INTERIOR

Office of the Secretary

[155D0102DR DL1000000.000000 DS62400000 DR.62402.15NPS100]

Proposed New Information Collection: OMB Control Number 1084-XXXX—Documenting, Managing and Preserving Department of the Interior Museum Collections Housed in Non-Federal Repositories

AGENCY: Office of the Secretary, Office of Acquisition and Property Management.

ACTION: Notice and request for comments.

SUMMARY: In compliance with the Paperwork Reduction Act of 1995, the Office of Acquisition and Property Management, Office of the Secretary, Department of the Interior announces a proposed programmatic public information collection and seeks public comments on the provisions thereof.

DATES: OMB has up to 60 days to approve or disapprove the information collection request, but may respond after 30 days; therefore, public comments should be submitted to OMB by March 5, 2015, in order to be assured of consideration.

ADDRESSES: Send your written comments by facsimile (202) 395-5806 or email (OIRA_Submission@omb.eop.gov) to the Office of Information and Regulatory Affairs, Office of Management and Budget, Attention: Department of the Interior Desk Officer (1085-XXXX). Also, please send a copy of your comments to Steven Floray, Office of Acquisition and Property Management, U.S. Department of the Interior, 1849 C Street NW., MS 4262-MIB, Washington, DC 20240, fax 202-513-7634, or by electronic mail to Steven_Floray@ios.doi.gov.

FOR FURTHER INFORMATION CONTACT: To request a copy of the information collection request, any explanatory information and related forms, contact Steven Floray via the information provided in the ADDRESSES section above. You may also review the information collection request online at http://www.reginfo.gov/public/do/PRAMain.

SUPPLEMENTARY INFORMATION:

I. Abstract

This notice is for a new information collection.

The Department of the Interior (DOI) owns and manages over 185 million artifacts, scientific specimens, and documents in trust for the American public—a collection size that rivals the Smithsonian Institution. This diverse collection consists of archaeological artifacts, archives, art, biological specimens, ethnographic objects, geological specimens, historic objects, and paleontological specimens that are held by ten of DOI's bureaus and offices. The majority of DOI's collections are housed in bureau facilities; however, over ten percent (more than 19 million objects and 11,000 cubic feet of objects) are housed by at least 839 non-Federal repositories, the majority of which are museums associated with, or departments of, U.S. colleges and universities. Most are scientific collections from the disciplines of archaeology, biology, geology, and paleontology and include associated archival records.

DOI museum collections, regardless of where they are housed, must be managed according to preservation, documentation, educational, and other requirements in the public interest. These requirements are mandated by a number of Federal laws, regulations, and policies, notably: Act for the Preservation of American Antiquities of 1906 (Antiquities Act) (16 U.S.C. 431-433); Historic Sites Act of 1935 (16 U.S.C. 461-467); Management of Museum Properties Act of 1955, as amended (16 U.S.C. 18f); National Historic Preservation Act of 1966, as amended (16 U.S.C. 470 et seq.); Archeological and Historic Preservation Act of 1974, as amended (16 U.S.C. 469-469l-2); Archaeological Resources Protection Act of 1979, as amended (16 U.S.C. 470aa-mm); Native American Graves Protection and Repatriation Act of 1990 (25 U.S.C. 3001-3013); Paleontological Resources Preservation Act (PRPA); Curation of Federally-Owned and Administered Archaeological Collections (36 CFR part 79); and the Department of the Interior Departmental Manual, Part 411: Identifying and Managing Museum Property (411 DM).

411 DM, which implements the Federal laws and regulations noted above, requires the following information be collected, used, and retained by all bureaus that hold ownership of museum collections: Facility Checklist for Spaces Housing DOI Museum Property; catalog records; accession records; and inventories of museum collections. These requirements apply to all DOI museum collections regardless of each collection's location (DOI facility or non-DOI facility) or the personnel that accomplished the work (DOI staff, contractors, partners, cooperators, agencies, institutions, or similar organizations associated with the Department).

II. Data

(1) Title: Documenting, Managing and Preserving Department of the Interior Museum Collections Housed in Non-Federal Repositories

OMB Control Number: 1084-XXXX.

Current Expiration Date: To be Determined.

Type of Review: This notice is for a new information collection.

Affected Entities: Museums; academic, cultural, and research institutions; and, state or local agencies and institutions.

Estimated annual number of respondents: 900.

Frequency of response: Maximum of once per year per collection instrument, and likely less frequently.

(2) Annual reporting and record keeping burden.

Total Annual Reporting per Respondent: 2 hours 20 minutes.

Total Annual Burden Hours: 2,100 hours.

(3) Description of the need and use of the information: The purpose of this information collection is to ensure compliance with all Federal laws, regulations and Departmental policy pertaining to the documentation, management, and preservation of DOI museum collections housed in non-Federal repositories, and to meet the DOI's associated stewardship responsibilities to the American public. This information collection consists of five separate instruments:

(a) Facility Checklist for Spaces Housing DOI Museum Property. The Facility Checklist for Spaces Housing DOI Museum Property (Checklist) is used to assess and evaluate exhibit, storage, and administrative office spaces that house DOI museum collections to ensure compliance with the requirements of DOI policy.

(b) Catalog records of DOI museum objects, including certain DOI required data: accession number; catalog number; discipline and classification; object or scientific name; unit acronym and/or identifier; controlled property status; item count or quantity; current location; description; condition; date cataloged; cataloger; and, other required discipline-specific information related to scientific collections and archives, such as provenience, collector, collection site, date and number, and archival scope, content, organization or arrangement.

(c) Accession records of DOI museum objects and collections, including certain DOI required data: Accession number; source and contact information; date received; date accessioned; accession type; description; project name; item total by discipline; catalog status; and, any catalog numbers in the accession.

(d) Inventories of DOI museum collections, including certain DOI required data: object found; item count; location; condition; date of inventory; and inventory method.

(e) Input on U.S. Department of the Interior Collections Housed at Non-Federal Facilities, which includes: the estimated number of DOI collections at the facility, if applicable; accession numbers of DOI collections; number of catalog records for DOI collections; type of museum catalog database used, if applicable; existence of DOI NAGPRA collections; inventory status; and research use. The information will be used by DOI to determine if DOI collections are located at the respondents' facilities, the nature of the collections, quantities, issues of complexity, and any other related factors.

(4) As required under 5 CFR 1320.8(d), a Federal Register notice soliciting comments on the information collection was published on March 14, 2014 (79 FR 14525). No comments were received. This notice provides the public with an additional 30 days in which to comment on the proposed information collection activity.

III. Request for Comments

The Department of the Interior invites comments on:

(a) Whether the collection of information is necessary for the proper performance of the functions of the agency, including whether the information will have practical utility;

(b) The accuracy of the agency's estimate of the burden of the collection and the validity of the methodology and assumptions used;

(c) Ways to enhance the quality, utility, and clarity of the information to be collected; and

(d) Ways to minimize the burden of the collection of information on those who are to respond, including through the use of appropriate automated, electronic, mechanical, or other collection techniques or other forms of information technology.

“Burden” means the total time, effort, or financial resources expended by persons to generate, maintain, retain, disclose, or provide information to or for a federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

All written comments, with names and addresses, will be available for public inspection. If you wish us to withhold your personal information, you must prominently state at the beginning of your comment what personal information you want us to withhold. We will honor your request to the extent allowable by law. If you wish to view any comments received, you may do so by scheduling an appointment with Property & Acquisition Management at the contact information provided in the ADDRESSES section. Valid picture identification is required for entry into the Department of the Interior, 1849 C Street NW., Washington, DC 20240.

An agency may not conduct or sponsor, and a person is not required to respond to, a collection of information unless it displays a currently valid Office of Management and Budget control number.

Dated: January 27, 2015.
James G. McCaffery, III,
Acting Director, Office of Acquisition and Property Management.

[FR Doc. 2015-01880 Filed 2-2-15; 8:45 am]

BILLING CODE 4334-12-P